DEPARTMENT OF TRANSPORTATION

Federal Aviation Administration

14 CFR Part 39

[Docket No. FAA-2008-1142; Directorate Identifier 2008-NM-060-AD; Amendment 39-15861; AD 2009-07-02]

RIN 2120-AA64

Airworthiness Directives; Hawker Beechcraft Corporation Model MU-300-10 Airplanes and Model 400 and 400A Series Airplanes; and Raytheon (Mitsubishi) Model MU-300 Airplanes

AGENCY: Federal Aviation Administration (FAA), Department of Transportation (DOT).

ACTION: Final rule.

SUMMARY: The FAA is superseding an existing airworthiness directive (AD), which applies to certain BEECH Model 400, 400A, and MU-300-10 airplanes. That AD currently requires installation of an improved adjustment mechanism on the flightcrew seats and replacement of the existing aluminum seat reinforcement assemblies with steel assemblies. This new AD would add airplanes to the applicability of the existing AD. This AD results from reports of incomplete latching of the existing adjustment mechanism and cracked reinforcement assemblies, which could result in sudden shifting of a flightcrew seat. We are issuing this AD to prevent sudden shifting of a flightcrew seat, which could impair the flightcrew's ability to control the airplane.

DATES: This AD becomes effective April 30, 2009.

The Director of the Federal Register approved the incorporation by reference of a certain publication listed in the AD as of April 30, 2009.

The Director of the Federal Register approved the incorporation by reference of a certain other publication as of March 13, 1996 (61 FR 5275, February 12, 1996).

ADDRESSES: For service information identified in this AD, contact Hawker Beechcraft Corporation, Department 62, P.O. Box 85, Wichita, Kansas 67201-0085; telephone 316-676-8238; fax 316-676-6706; e-mail tmdc@hawkerbeechcraft.com; Internet https://www.hawkerbeechcraft.com/service_support/pubs.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: William Griffith, Aerospace Engineer, Airframe Branch, ACE-118W, FAA, Wichita Aircraft Certification Office, 1801 Airport Road, Room 100, Mid-Continent Airport, Wichita, Kansas 67209; telephone (316) 946-4116; fax (316) 946-4107.

SUPPLEMENTARY INFORMATION:

Discussion

The FAA issued a notice of proposed rulemaking (NPRM) to amend 14 CFR part 39 to include an AD that supersedes AD 96-03-07, amendment 39-9504 (61 FR 5275, February 12, 1996). The existing AD applies to certain BEECH Model 400, 400A, and MU-300-10 airplanes. That NPRM was published in the Federal Register on October 31, 2008 (73 FR 64899). That NPRM proposed to continue to require installation of an improved adjustment mechanism on the flightcrew seats and replacement of the existing aluminum seat reinforcement assemblies with steel assemblies. That NPRM also proposed to require the actions on additional airplanes.

Comments

We provided the public the opportunity to participate in the development of this AD. No comments have been received on the NPRM or on the determination of the cost to the public.

Explanation of Changes to NPRM

The product identification and paragraph (c) of the NPRM have been revised to correspond to the identity of the type certificate holder and model designation for the affected airplanes.

We have re-identified Note 1 as paragraph (h) in this final rule to emphasize that if deviations occur from the instructions provided in Raytheon Mandatory Service Bulletin SB 25-2536, Revision 2, dated March 2002, an alternative method of compliance must be requested under the provisions of paragraph (i) of this AD. We have re-identified subsequent paragraphs accordingly.

Conclusion

We reviewed the available data and determined that air safety and the public interest require adopting the AD with the changes described previously. We also determined that these changes will not increase the economic burden on any operator or increase the scope of the AD.

Costs of Compliance

The actions specified by this AD were previously required by AD 96-03-07, which was applicable to approximately 121 airplanes. The actions required by that AD take about 24 work-hours per airplane at $80 per work-hour. Required parts cost up to $7,433 per airplane. Based on these figures, we estimate the cost of the current requirements of that AD on U.S. operators to be up to $1,131,713, or $9,353 per airplane. In consideration of the compliance time and effective date of AD 96-03-07, we assume that operators of the 121 airplanes subject to that AD have already initiated the required actions. This AD adds no new costs associated with those airplanes.

This AD applies to approximately 76 additional airplanes. The existing actions required by this AD take about 24 work-hours per airplane. The manufacturer has updated the cost of required parts; the required parts now cost up to $24,474 per airplane. Based on the figures discussed above, we estimate the current costs of the existing actions required by this AD on U.S. operators of the additional airplanes to be up to $2,005,944. This figure is based on assumptions that no operator of these additional airplanes has yet done any of the requirements of this AD, and that no operator would do those actions in the future if this AD were not adopted.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-9504 (61 FR 5275, February 12, 1996) and by adding the following new airworthiness directive (AD):

2009-07-02 Hawker Beechcraft Corporation (Formerly Raytheon Aircraft Company, formerly Beech Aircraft Corporation): Amendment 39-15861. Docket No. FAA-2008-1142; Directorate Identifier 2008-NM-060-AD.

Effective Date

(a) This AD becomes effective April 30, 2009.

Affected ADs

(b) This AD supersedes AD 96-03-07.

Applicability

(c) This AD applies to the airplanes specified in Table 1 of this AD, certificated in any category.

Table 1—Applicability
Manufacturer | Model | Serial Nos.
Hawker Beechcraft Corporation | Model 400 series airplanes | RJ-1 through RJ-65 inclusive.
Hawker Beechcraft Corporation | Model 400A series airplanes | RK-1 through RK-93 inclusive.
Hawker Beechcraft Corporation | Model MU-300-10 airplanes | A1001SA through A1011SA inclusive.
Raytheon (Mitsubishi) | Model MU-300 airplanes | A003SA through A091SA inclusive.

Unsafe Condition

(d) This AD results from reports of incomplete latching of the existing adjustment mechanism and cracked reinforcement assemblies, which could result in sudden shifting of a flightcrew seat. We are issuing this AD to prevent sudden shifting of a flightcrew seat, which could impair the flightcrew's ability to control the airplane.

Compliance

(e) You are responsible for having the actions required by this AD performed within the compliance times specified, unless the actions have already been done.

Restatement of the Requirements of AD 96-03-07

(f) For Hawker Beechcraft Model MU-300-10 airplanes and Model 400 and 400A series airplanes: Within 200 hours time-in-service after March 13, 1996 (the effective date of AD 96-03-07), install an improved adjustment mechanism on the flightcrew seat, and replace the existing aluminum seat reinforcement assemblies with steel assemblies, in accordance with Beechcraft Service Bulletin No. 2536, Revision 1, dated April 1995; or Raytheon Mandatory Service Bulletin SB 25-2536, Revision 2, dated March 2002.

Requirements for Additional Airplanes

(g) For Raytheon (Mitsubishi) Model MU-300 airplanes: Within 200 flight hours or 12 months after the effective date of this AD, whichever occurs first, install an improved adjustment mechanism on the flightcrew seats, and replace the existing aluminum seat reinforcement assemblies with steel assemblies, in accordance with Raytheon Mandatory Service Bulletin SB 25-2536, Revision 2, dated March 2002.

(h) A note in the Accomplishment Instructions of Raytheon Mandatory Service Bulletin SB 25-2536, Revision 2, dated March 2002, instructs operators to contact Raytheon if any difficulty is encountered while accomplishing the actions specified in that service bulletin. However, any deviation from the instructions provided in Raytheon Mandatory Service Bulletin SB 25-2536, Revision 2, dated March 2002, must be approved as an alternative method of compliance (AMOC) under provisions of paragraph (i) of this AD.

Alternative Methods of Compliance

(i)(1) The Manager, Wichita Aircraft Certification Office (ACO), FAA, ATTN: William Griffith, Aerospace Engineer, Airframe Branch, ACE-118W, FAA, Wichita ACO, 1801 Airport Road, Room 100, Mid-Continent Airport, Wichita, Kansas 67209; telephone (316) 946-4116; fax (316) 946-4107; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Material Incorporated by Reference

(j) You must use Beechcraft Service Bulletin No. 2536, Revision 1, dated April 1995; or Raytheon Mandatory Service Bulletin SB 25-2536, Revision 2, dated March 2002; as applicable; to do the actions required by this AD, unless the AD specifies otherwise.

(1) The Director of the Federal Register approved the incorporation by reference of Raytheon Mandatory Service Bulletin SB 25-2536, Revision 2, dated March 2002, under 5 U.S.C. 552(a) and 1 CFR part 51. The Director of the Federal Register approved the incorporation by reference of Beechcraft Service Bulletin No. 2536, Revision 1, dated April 1995, as of March 13, 1996 (61 FR 5275, February 12, 1996).

(2) For service information identified in this AD, contact Hawker Beechcraft Corporation, Department 62, P.O. Box 85, Wichita, Kansas 67201-0085; telephone 316-676-8238; fax 316-676-6706; e-mail tmdc@hawkerbeechcraft.com; Internet https://www.hawkerbeechcraft.com/service_support/pubs.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on March 16, 2009.
Ali Bahrami,
Manager, Transport Airplane Directorate, Aircraft Certification Service.

[FR Doc. E9-6227 Filed 3-25-09; 8:45 am]

BILLING CODE 4910-13-P